DEPARTMENT OF HEALTH AND HUMAN SERVICES

Administration for Community Living

Notice of Intent To Award a Single-Source Non-Competing Continuation Application To Fund Grant Number 90DN0295 University of Massachusetts for an Additional 12 Months

SUMMARY: The Administration for Community Living (ACL) recently announced the awarding of the University of Massachusetts-Boston to the Institute of Community Inclusion (ICI). The University of Massachusetts-Boston will maintain and advance the longitudinal study describing day and employment services nationwide for individuals with developmental disabilities.

SUPPLEMENTARY INFORMATION:

Program Name: Institute of Community Inclusion.

Award Amount: $350,000.00.

Statutory Authority: The Developmental Disabilities and Bill of Rights Act of 2000.

Catalog of Federal Domestic Assistance (CFDA) Number: 93.631.

Program Description: The Administration on Developmental and Intellectual Disabilities, an agency of the U.S. Administration for Community Living, has been funding the ICI for thirty-five years. The project's activities include: Studying the effectiveness of state developmental disabilities agencies and vocational rehabilitation agencies in promoting full inclusion of individuals with intellectual and developmental disabilities through employment and other community activities; describing national trends in the employment and economic status of youth and adults with intellectual and developmental disabilities on a state and national basis; highlighting practices and outcomes in the transition from school to employment and promote policy enhancing integrated employment at both the systems and customer levels; developing guidelines for community-based non-work activities; implementing www.statedata.info, a Web site illustrating service system investment in day and employment services, and www.realworkstories.org, a Web site featuring successes of youth with intellectual and developmental disabilities in paid jobs in their communities; provide an online catalog of innovative state-level strategies that influence policy and facilitate access to integrated employment; collaborate with the University of Minnesota and the University of Colorado to show targeted current year and longitudinal data on the project Web site and providing a create-a-chart option allowing reports to be customized. The project provides comparative nationwide longitudinal study of the employment trends of people with Intellectual/Developmental Disabilities and is a thirty-five year body of work.

Agency Contact: For further information or comments regarding this supplemental action, contact Katherine-Cargill-Willis, U.S. Department of Health and Human Services, Administration for Community Living, Administration on Intellectual and Developmental Disabilities, 330 C Street SW., Washington, DC 20201; telephone 202-795-7322; email katherine.cargill-willis@acl.hhs.gov.

Dated: July 17, 2017.
Mary Lazare,
Acting Administrator and Assistant Secretary for Aging.

[FR Doc. 2017-15663 Filed 7-25-17; 8:45 am]

BILLING CODE 4154-01-P